DEPARTMENT OF HEALTH AND HUMAN SERVICES

Administration for Children and Families

Supplementary Comment Period; Placement and Transfer of Unaccompanied Children (UC) Into ORR Care Provider Facilities (Office of Management and Budget (OMB) #0970-0554)

AGENCY: Office of Refugee Resettlement, Administration for Children and Families, Health and Human Services (HHS).

ACTION: Request for Public Comment.

SUMMARY: The Office of Refugee Resettlement (ORR), Administration for Children and Families (ACF), U.S. Department of Health and Human Services (HHS), recently requested public comment on proposed revisions to forms that allow the UC Program to place UC referred to ORR by federal agencies into care provider facilities and to transfer UC within the ORR care provider network. In response to comments received, ORR is now providing a supplemental opportunity to provide comments on versions of revised forms that display the available options for dropdown fields. ORR invites any supplementary or new public comments that may arise with the added context of the dropdown options.

DATES: Comments due no later than August 15, 2022.

ADDRESSES: You can obtain copies of the proposed collection of information and submit comments by emailing infocollection@acf.hhs.gov. Identify all requests by the title of the information collection.

SUPPLEMENTARY INFORMATION: Description: ORR received several comments on this information collection in response to the Federal Register (FR) notice published on January 19, 2021, (86 FR 5196) and provided responses to those comments in its final submission to OMB. Summaries of the comments and ORR's responses can be accessed at https://www.reginfo.gov/public/do/PRAViewDocument?ref_nbr=202110-0970-001. Some of the comments requested that ORR make available copies of the revised forms that display the available options for dropdown fields. In response to this request, ORR updated the screenshots for the forms that contain dropdown fields. Those forms are

• UC Referral (formerly titled Intakes Placement Checklist and Add New UC) (Form P-7) (https://www.reginfo.gov/public/do/PRAViewIC?ref_nbr=202110-0970-001&icID=242791)

• Transfer Request (Form P-10A) (https://www.reginfo.gov/public/do/PRAViewIC?ref_nbr=202110-0970-001&icID=242795)

• Influx Transfer Request (Form P-10B) (https://www.reginfo.gov/public/do/PRAViewIC?ref_nbr=202110-0970-001&icID=249640)

• Program Entity (formerly titled UC Portal Capacity Report) (Form P-12) (https://www.reginfo.gov/public/do/PRAViewIC?ref_nbr=202110-0970-001&icID=242797)

• UC Profile (formerly titled Add New UC) (Form P-13) (https://www.reginfo.gov/public/do/PRAViewIC?ref_nbr=202110-0970-001&icID=242798)

• Influx Transfer Manifest (Form P-16) (https://www.reginfo.gov/public/do/PRAViewIC?ref_nbr=202110-0970-001&icID=249642)

• Influx Transfer Manual and Prescreen Criteria Review (Form P-17) (https://www.reginfo.gov/public/do/PRAViewIC?ref_nbr=202110-0970-001&icID=249643)

ORR invites supplementary comments from those who previously submitted comments, as well as new comments from anyone who did not previously submit comments.

Respondents: ORR grantee and contractor staff, and released children and sponsors.

Annual Burden Estimates
Instrument | Annual number of respondents | Annual number of responses per respondent | Average burden minutes per response | Annual total burden hours
Placement Authorization (Form P-1) | 216 | 278 | 5 | 5,004
Authorization for Medical, Dental, and Mental Health Care (Form P-2) | 216 | 278 | 5 | 5,004
Notice of Placement in a Restrictive Setting (Form P-4/4s) | 15 | 34 | 20 | 170
Long Term Foster Care Placement Memo (Form P-5) | 30 | 3 | 15 | 23
UC Referral (Form P-7) | 16 | 3,250 | 60 | 52,000
UC Referral—Intakes Placement Checklist (Form P-7) | 16 | 9 | 30 | 72
Care Provider Checklist for Transfers to Influx Care Facilities (Form P-8) | 216 | 10 | 15 | 540
Medical Checklist for Transfers (Form P-9A) | 216 | 27 | 5 | 486
Medical Checklist for Influx Transfers (Form P-9B) | 216 | 63 | 10 | 2,268
Transfer Request (Form P-10A)—Grantee Case Manager | 216 | 37 | 25 | 3,330
Transfer Request (Form P-10A)—Contractor Case Coordinator | 250 | 37 | 20 | 3,083
Influx Transfer Request (Form P-10B) | 216 | 63 | 25 | 5,670
Transfer Summary and Tracking (Form P-11) | 216 | 37 | 10 | 1,332
Program Entity (Form P-12) | 216 | 12 | 30 | 1,296
UC Profile (Form P-13) | 216 | 241 | 45 | 39,042
ORR Transfer Notification-ORR Notification to ICE Chief Counsel of Transfer of UC and Request to Change Address/Venue (Form P-14) | 216 | 37 | 10 | 1,332
Family Group Entity (Form P-15) | 16 | 188 | 5 | 251
Influx Transfer Manifest (Form P-16) | 3 | 12 | 20 | 12
Influx Transfer Manual and Prescreen Criteria Review (Form P-17) | 216 | 43,333 | 30 | 4,679,964
Estimated Annual Burden Hours Total |  |  |  | 4,800,879

Authority: 6 U.S.C. 279; 8 U.S.C. 1232; Flores v. Reno Settlement Agreement, No. CV85-4544-RJK (C.D. Cal. 1996)

Mary B. Jones,
ACF/OPRE Certifying Officer.

[FR Doc. 2022-15063 Filed 7-13-22; 8:45 am]

BILLING CODE 4184-45-P